DEPARTMENT OF ENERGY

Federal Energy Regulatory Commission

Supplemental Notice of Technical Conference

| Docket No.
Priority Rights to New Participant-Funded Transmission | AD11-11-000
Alta Wind I, LLC | EL10-62-000
Alta Wind II, LLC |
Alta Wind III, LLC |
Alta Wind IV, LLC |
Alta Wind V, LLC |
Alta Wind VI, LLC |
Alta Wind VII, LLC |
Alta Wind VIII, LLC |
Alta Windpower Development, LLC |
TGP Development Company, LLC |
Puget Sound Energy, Inc | EL10-72-001
Terra-Gen Dixie Valley, LLC, TGP Dixie Development Company, LLC, and New York Canyon, LLC | EL10-29-002
Green Borders Geothermal, LLC v. Terra-Gen Dixie Valley, LLC | EL10-36-002
Terra-Gen Dixie Valley, LLC | ER11-2127-001
Northern Pass Transmission, LLC | ER11-2377-000
Cedar Creek Wind Energy, LLC | RC11-1-000
Milford Wind Corridor Phase I, LLC | RC11-2-000
SunZia Transmission, LLC | EL11-24-000

On February 22, 2011, the Federal Energy Regulatory Commission (Commission) announced that a Technical Conference on Priority Rights to New Participant-Funded Transmission will be held on Tuesday, March 15, 2011, from 9:30 a.m. to 3:15 p.m. (EST). The staff-led conference will be held in the Commission Meeting Room at the Commission's headquarters at 888 First Street, NE., Washington, DC 20426. The conference will be open for the public to attend and advance registration is not required. Members of the Commission may attend the conference.

Attached to this supplemental notice is an agenda for the conference. If any changes are made, the revised agenda will be posted prior to the event on the Calendar of Events on the Commission's Web site, http://www.ferc.gov.

Notice is also hereby given that discussions at the conference may address matters at issue in the above-referenced individual proceedings that are either pending or within their rehearing period.

A free webcast of the technical conference will be available. Anyone with internet access who desires to listen to this event can do so by navigating to the Calendar of Events on the Commission's Web site and locating this event in the Calendar. The event will contain a link to its webcast. The Capitol Connection provides technical support for webcasts and will offer the option of listening to the conference via phone-bridge for a fee. If you have any questions about the webcast, visit http://www.CapitolConnection.org or call (703) 993-3100.

This conference will also be transcribed. Transcripts will be available immediately, for a fee, from Ace Reporting Company (202-347-3700 or 800-336-6646).

FERC conferences are accessible under section 508 of the Rehabilitation Act of 1973. For accessibility accommodations please send an e-mail to accessibility@ferc.gov or call toll free (866) 208-3372 (voice) or (202) 502-8659 (TTY), or send a fax to (202) 208-2106 with the requested accommodations.

For further information please contact Becky Robinson at (202) 502-8868 or Becky.Robinson@ferc.gov; or Pierson Stoecklein at (202) 502-6372 or Pierson.Stoecklein@ferc.gov.

Dated: March 7, 2011.
Kimberly D. Bose,
Secretary.

Priority Access to New Participant-Funded Transmission

AD11-11-000

March 15, 2011

Agenda

9:30-9:45 a.m. Welcome and Opening Remarks

Introduction

The electric industry has evolved since Order No. 888 was adopted. In addition to the traditional utility structure of vertical integration, new models for developing, owning, and operating electric transmission infrastructure have been the subject of petitions before the Commission. In several of these proceedings, various proposals have been made regarding priority access to the transmission capacity developed. Commission staff would like to explore issues related to priority rights to use transmission infrastructure developed under these new business models in two contexts: independent and/or merchant transmission ¹ and generator lead lines.²

¹ See, e.g., Chinook Power Transmission, LLC, 126 FERC ¶ 61,134 (2009).

² See, e.g., Milford Wind Corridor, LLC, 129 FERC ¶ 61,149 (2009).

In both contexts, participants are encouraged to identify and discuss the appropriate balance between the Commission's requirements for open access and the needs of project developers. Participants are encouraged to propose and discuss possible regulatory alternatives that are consistent with the Commission's open access policies and its statutory responsibility to ensure that rates, terms, and conditions of service are just and reasonable and not unduly discriminatory or preferential.

Panel 1

9:45-11:45 a.m. Independent and/or Merchant Transmission Lines

Transmission infrastructure is no longer solely developed, owned, and operated by incumbent utilities serving native load within their traditional footprint, but also by non-incumbent, independent developers on a cost-of-service or negotiated rate basis. The purpose of this panel is to discuss whether to allow these non-traditional entities flexibility in the allocation of priority rights to the use of transmission facilities and, if so, how such flexibility could be implemented consistent with Commission open access policies. Panelists are encouraged to address:

• The effect of the Commission's current affiliate rules and pricing structures (e.g., cost-based or negotiated rates) on the economics of a proposed project, as well as on efforts to right-size/up-size a proposed project;

• The need for and appropriate application of mechanisms to ensure customer interest in and access to new transmission (including, but not necessarily limited to anchor shipper/tenant arrangements and open seasons) and how such mechanisms can be implemented to accommodate developers' project development and customers' needs, while satisfying the Commission's open access policies and responsibility to ensure that rates are just and reasonable and not unduly discriminatory or preferential.

Panelists

➢ Stephen Conant, Senior Vice President for Strategic Development, Anbaric Transmission, LLC & NEITC

➢ Terry Wolf, Manager, Transmission Services, Missouri River Energy Services

➢ Mike Cashell, Chief Transmission Officer, NorthWestern Energy

➢ Cynthia Marlette, Special Counsel, Patton Boggs LLP (Western Independent Transmission Group)

➢ Michael Skelly, President, Clean Line Energy

➢ David Raskin, Partner, Steptoe & Johnson LLP

➢ Robert van Beers, Chief Development Officer, Tonbridge Power, Inc.

➢ Tyson Utt, Project Manager, Horizon Wind Energy LLC

➢ Kenneth Houston, Director, Transmission Services, PacifiCorp

11:45 a.m.-1 p.m. BREAK

Panel 2

1-3 p.m. Generator Lead Lines

Increasingly, generation owners have chosen to build, administer, and operate the transmission facilities that interconnect their generation facilities with the network transmission system, referred to herein as generator lead lines. In that situation, generation owners also have sought to secure priority rights to use the capacity on these lines. The purpose of this panel is to address the application of the Commission's open access policies to generator lead lines in the instance when affiliated or unaffiliated third-party generators also seek to use these facilities. Panelists are encouraged to address:

• The unique attributes of generator lead lines among transmission facilities (including ownership structures, physical or operational characteristics, etc.);

• The implications for generation developers and potential transmission customers of the Commission applying open access polices in the same manner to generator lead lines as it applies those policies to other transmission facilities, and whether the Commission should apply its open access policies to generator lead line facilities in a manner different from the way it applies such policies to other transmission facilities;

• The showing required to justify priority usage allocations (e.g., types of ownership/lease arrangements and expansion/development plans with definite dates and milestones for construction), and the extent to which this showing accommodates developers' project development and customers' needs, while satisfying the Commission's open access policies and responsibility to ensure that rates are just and reasonable and not unduly discriminatory or preferential.

Panelists

➢ Brad Oachs, Chief Operating Officer, Minnesota Power

➢ Joel Newton, Senior Attorney, NextEra Energy Resources LLC

➢ Tom DeBoer, Director, Rates and Regulatory Affairs, Puget Sound Energy, Inc.

➢ Richard Lorenzo, Partner, Loeb & Loeb LLP

➢ Adam Wenner, Partner, Chadbourne & Parke LLP

➢ Kurt Adams, Executive Vice President & Chief Development Officer, First Wind

➢ Kris Zadlo, Vice President, Regulatory Affairs and Transmission, Invenergy LLC

3-3:15 p.m. Wrap-Up

[FR Doc. 2011-5708 Filed 3-11-11; 8:45 am]

BILLING CODE 6717-01-P